DEPARTMENT OF TRANSPORTATION

Federal Aviation Administration

14 CFR Part 97

[Docket No. 30268; Amdt. No. 2069]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on September 14, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMILS, MLS, MLS/DME, MLS/RNAV; § 97.31 RADAR SIAPs; § 97.33 RNAV SIAPs; and § 97.35 COPTER SIAPs, identified as follows:

* * * Effective October 4, 2001

Ankeny, IA, Ankeny Regional, ILS RWY 36, Orig

Ankeny, IA, Ankeny Regional, VOR/DME RWY 36, Orig-A, (CANCELLED)

Dubuque, IA, Dubuque Regional, ILS RWY 36, Orig

Dubuque, IA, Dubuque Regional, LOC RWY 31, Orig

Dubuque, IA, Dubuque Regional, ILS RWY 31, Amdt 10E, (CANCELLED)

Philadelphia, PA, Philadelphia Intl, ILS RWY 26, Amdt 2

Philadelphia, PA, Philadelphia Intl, ILS PRM RWY 26, Amdt 1 (Simultaneous Close Parallel)

Philadelphia, PA, Philadelphia Intl, ILS RWY 27L, Amdt 12

Philadelphia, PA, Philadelphia Intl, ILS PRM RWY 27L, Amdt 1 (Simultaneous Close Parallel)

* * * Effective November 1, 2001

Anchorage, AK, Ted Stephens Anchorage Intl, ILS RWY 14, Amdt 2

Carlsbad, CA, McClellan-Palomar, VOR-A, Amdt 7A

Carlsbad, CA, McClellan-Palomar, RNAV (GPS) RWY 24, Orig

Shirley, NY, Brookhaven, RNAV (GPS) RWY 6, Orig

Shirley, NY, Brookhaven, RNAV (GPS) RWY 24, Orig

Shirley, NY, Brookhaven, GPS RWY 6, Orig. CANCELLED

Shirley, NY, Brookhaven, GPS RWY 24, Orig. CANCELLED

Myrtle Beach, SC, Myrtle Beach Intl, RNAV (GPS) RWY 17, Amdt 1

Myrtle Beach, SC, Myrtle Beach Intl, RNAV (GPS) RWY 35, Amdt 1

Anahauc, TX, Chambers County, NDB RWY 12, Amdt 1

Angleton/Lake Jackson, TX, Brazoria County, ILS RWY 17, Amdt 3

Dallas-Fort Worth, TX, Dallas-Fort Worth Intl, ILS RWY 31R, Amdt 11

Dallas-Fort Worth, TX, Dallas-Fort Worth Intl, Converging ILS RWY 31R, Amdt 5

Houston, TX, David Wayne Hooks Memorial, LOC RWY 17R, Amdt 1

Houston, TX, David Wayne Hooks Memorial, NDB RWY 17R, Amdt 11

Houston, TX, David Wayne Hooks Memorial, VOR/DME RNAV RWY 17R, Amdt 4

Houston, TX, David Wayne Hooks Memorial, VOR/DME RNAV RWY 35L, Amdt 4

Houston, TX, Ellington Field, RNAV (GPS) RWY 22, Orig

Houston, TX, Ellington Field, ILS RWY 35L, Amdt 5

Houston, TX, Ellington Field, ILS RWY 22, Amdt 3

Houston, TX, Ellington Field, ILS RWY 17R, Amdt 5

Houston, TX, Ellington Field, GPS RWY 17R, Orig-A (CANCELLED)

Houston, TX, Ellington Field, GPS RWY 35L, Orig (CANCELLED)

Houston, TX, Ellington Field, RNAV (GPS) RWY 17R, Orig

Houston, TX, Ellington Field, RNAV (GPS) RWY 35L, Orig

Houston, TX, George Bush Intercontinental/Houston, RNAV (GPS) ZRWY 9, Orig

Houston, TX, George Bush Intercontinental/Houston, RNAV (GPS) YRWY 9, Orig

Houston, TX, George Bush Intercontinental/Houston, GPS RWY 8, Orig (CANCELLED)

Houston, TX, George Bush Intercontinental/Houston, GPS RWY 9, Orig (CANCELLED)

Houston, TX, George Bush Intercontinental/Houston, RNAV (GPS) RWY 26, Orig

Houston, TX, George Bush Intercontinental/Houston, GPS RWY 26, Amdt 1 (CANCELLED)

Houston, TX, George Bush Intercontinental/Houston, RNAV (GPS) RWY 8, Orig

Houston, TX, George Bush Intercontinental/Houston, ILS RWY 15L, Amdt 12

Houston, TX, George Bush Intercontinental/Houston, ILS RWY 33R, Amdt 11

Houston, TX, George Bush Intercontinental/Houston, ILS RWY 8, Amdt 20

Houston, TX, George Bush Intercontinental/Houston, ILS RWY 9, Amdt 5

Houston, TX, George Bush Intercontinental/Houston, ILS RWY 26, Amdt 16

Houston, TX, George Bush Intercontinental/Houston, ILS RWY 27, Amdt 4

Houston, TX, George Bush Intercontinental/Houston, VOR/DME RWY 15L, Amdt 16

Houston, TX, George Bush Intercontinental/Houston, VOR/DME RWY 33R, Amdt 14

Houston, TX, George Bush Intercontinental/Houston, NDB RWY 26, Amdt 2

Houston, TX, Houston-Southwest, LOC/DME RWY 9, Amdt 3

Houston TX, Houston-Southwest, NDB RWY 27, Amdt 4

Houston, TX, Scholes International at Galveston, VOR RWY 13, Amdt 3

Houston, TX, Scholes International at Galveston, ILS RWY 13, Amdt 10

Houston, TX, Sugar Land/Hull Field, ILS RWY 35, Amdt 3

Houston, TX, Sugar Land/Hull Field, NDB RRWY 35, Amdt 5

Houston, TX, Sugar Land/Hull Field, VOR/DME RNAV RWY 35, Amdt 8

Houston, TX, Weiser Airpark, NDB-D, Orig

Houston, TX, Weiser Airpark, NDB or GPS-A, Orig (CANCELLED)

Houston, TX, West Houston, VOR/DME RNAV RWY 33, Amdt 4

Houston, TX, West Houston, RNAV (GPS) ZRWY 33, Orig

Houston, TX, West Houston, RNAV (GPS) RWY 15, Orig

Houston, TX, West Houston, GPS RWY 15, Orig (CANCELLED)

Houston, TX, West Houston, GPS RWY 33, Orig (CANCELLED)

Houston, TX, West Houston, VOR/DME RNAV RWY 15, Amdt 4

Houston, TX, West Houston, NDB RWY 15, Amdt 3

Houston, TX, West Houston, NDB RWY 33, Amdt 4

Houston, TX, West Houston, VOR-B, Amdt 3

Houston, TX, West Houston, VOR-D Orig

Houston, TX, William P. Hobby, RNAV (GPS) RWY 4, Amdt 1

Houston, TX, William P. Hobby, RNAV (GPS) RWY 17, Amdt 1

Houston, TX, William P. Hobby, RNAV (GPS) RWY 22, Amdt 1

Houston, TX, William P. Hobby, RNAV (GPS) RWY 35, Amdt 1

Houston, TX, William P. Hobby, VOR/DME RWY 30L, Amdt 17

Houston, TX, William P. Hobby, VOR RWY 17, Amdt 1C, (CANCELLED)

Houston, TX, William P. Hobby, VOR RWY 12R, Amdt 18B (CANCELLED)

Houston, TX, William P. Hobby, LOC RWY 22, Amdt 1

Houston, TX, William P. Hobby, VOR/DME RWY 4, Amdt 18

Houston, TX, William P. Hobby, VOR/DME E, Orig

Houston, TX, William P. Hobby, NDB RWY 4, Amdt 33

Houston, TX, William P. Hobby, VOR/DME RWY 35, Amdt 3

Houston, TX, William P. Hobby, ILS RWY 4, Amdt 38

Waco, TX, Waco Regional, VOR RWY 14, Amdt 23

[FR Doc. 01-23570 Filed 9-20-01; 8:45 am]

BILLING CODE 4910-13-M